DEPARTMENT OF COMMERCE

International Trade Administration

[C-570-966]

Drill Pipe From the People's Republic of China: Alignment of Final Countervailing Duty Determination With Final Antidumping Duty Determination

AGENCY: Import Administration, International Trade Administration, Department of Commerce.

SUMMARY: The Department of Commerce (the Department) is aligning the final determination in the countervailing duty investigation of drill pipe from the People's Republic of China (PRC) with the final determination in the companion antidumping duty investigation.

DATES: Effective Date: June 21, 2010.

FOR FURTHER INFORMATION CONTACT: Kristen Johnson or Eric Greynolds, AD/CVD Operations, Office 3, Import Administration, U.S. Department of Commerce, Room 4014, 14th Street and Constitution Avenue, NW., Washington, DC 20230; telephone: (202) 482-4793 and (202) 482-6071, respectively.

Background

On January 20, 2010, the Department initiated the countervailing and antidumping duty investigations on drill pipe from the PRC. See Drill Pipe From the People's Republic of China: Initiation of Countervailing Duty Investigation, 75 FR 4345 (January 27, 2010), and Drill Pipe From the People's Republic of China: Initiation of Antidumping Duty Investigation, 75 FR 4531 (January 28, 2010). The countervailing and antidumping duty investigations have the same scope with regard to the subject merchandise covered.

On June 9, 2010, the petitioners ¹ submitted a letter, pursuant to 19 CFR 351.210(b)(4), requesting alignment of the final countervailing duty determination with the final determination in the companion antidumping duty investigation of drill pipe from the PRC. On June 11, 2010, the Department published the preliminary affirmative countervailing duty determination on drill pipe from the PRC. See Drill Pipe From the People's Republic of China: Preliminary Affirmative Countervailing Duty Determination, 75 FR 33245 (June 11, 2010).

¹ Petitioners are VAM Drilling USA, Inc., Texas Steel Conversions, Inc., Rotary Drilling Tools, TMK IPSCO, and United Steel, Paper and Forestry, Rubber, Manufacturing, Energy, Allied Industrial and Service Workers International Union, AFL-CIO-CLC.

Therefore, in accordance with section 705(a)(1) of the Tariff Act of 1930, as amended (the Act), and 19 CFR 351.210(b)(4), we are aligning the final countervailing duty determination on drill pipe from the PRC with the final determination in the companion antidumping duty investigation of drill pipe from the PRC. The final countervailing duty determination will be issued on the same date as the final antidumping duty determination currently scheduled for October 19, 2010.

This notice is issued and published pursuant to sections 705(a)(1) and 771(i) of the Act.

Dated: June 16, 2010.
Paul Piquado,
Acting Deputy Assistant Secretary for Import Administration.

[FR Doc. 2010-14935 Filed 6-18-10; 8:45 am]

BILLING CODE 3510-DS-P